DEPARTMENT OF DEFENSE

[Transmittal No. 17-78]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-78 with attached Policy Justification and Sensitivity of Technology.

Dated: March 6, 2018.
Aaron Siegel,
Alternate OSD Federal Register Liaison Officer, Department of Defense.

BILLING CODE 5001-06-P

BILLING CODE 5001-06-C

Transmittal No. 17-78

Notice of Proposed Issuance of Letter of Offer Pursuant to Section 36(b)(1) of the Arms Export Control Act, as amended

(i) Prospective Purchaser: Government of Kuwait

(ii) Total Estimated Value:

Major Defense Equipment * | $ 0 million
Other | $259 million
Total | $259 million

(iii) Description and Quantity or Quantities of Articles or Services under Consideration for Purchase:

Major Defense Equipment (MDE): None

Non-MDE: Four (4) King Air 350ER ISR aircraft with enhanced PT6A-67A engines and one (1) engine spare; four (4) AN/AAQ-35 WESCAM MXndash;15HDi Electro-Optical & Infrared Imaging Sensor Turret; four (4) Selex Seaspray 7500E Active Electronically Scanned Array Radars (AESA); AN/AAR-47 Missile Warning Systems (MWS); AN/ALE-47 Countermeasure Dispenser Systems; secure communications, cryptographic, and precision navigation equipment; Identification Friend or Foe (IFF) Systems; aircraft modification and integration for ISR mission systems; facility design and construction; ground data processing systems and support equipment; spares and repair parts; support and test equipment; simulators, training and training equipment; publications and technical documentation; U.S. Government and contractor engineering, technical and logistics support services; and other related elements of logistical and program support. Additionally, one of the four aircraft will be further modified to accommodate VIP/senior leadership personnel for transport and Med Evac capability or command and control, and other related elements of logistical support.

(iv) Military Department: Air Force (KU-D-SAB)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: February 21, 2018

*As defined in Section 47(6) of the Arms Export Control Act.

POLICY JUSTIFICATION

Kuwait—Intelligence, Surveillance, and Reconnaissance King Air 350ER

The Government of Kuwait has requested a possible sale of four (4) King Air 350ER Intelligence, Surveillance, and Reconnaissance (ISR) aircraft with enhanced PT6A-67A engines and one (1) engine spare; four (4) AN/AAQ-35 WESCAM MX-15HDi Electro-Optical & Infrared Imaging Sensor Turret; four (4) Selex Seaspray 7500E Active Electronically Scanned Array Radars (AESA); AN/AAR-47 Missile Warning Systems (MWS); AN/ALE-47 Countermeasure Dispenser Systems; secure communications, cryptographic, and precision navigation equipment; Identification Friend or Foe (IFF) Systems; aircraft modification and integration for ISR mission systems; facility design and construction; ground data processing systems and support equipment; spares and repair parts; support and test equipment; simulators, training and training equipment; publications and technical documentation; U.S. Government and contractor engineering, technical and logistics support services; and other related elements of logistical and program support. Additionally, one of the four aircraft will be further modified to accommodate VIP/senior leadership personnel for transport and Med Evac capability or command and control, and other related elements of logistical support. The estimated total case value is $259 million.

This proposed sale will contribute to the foreign policy and national security of the United States by helping to improve the security of a friendly country. Kuwait plays a large role in U.S. efforts to advance stability in the Middle East, providing basing, access, and transit for U.S. forces in the region.

The proposed sale will enable Kuwait to gather its own airborne ISR data. This capability will improve Kuwait's situational awareness, armed forces posture, and armed forces capability to respond to threats. Enhancing Kuwait's Command, Control, Communications, Computers, & Intelligence (C4I) capability will result in the potential for greater burden sharing. The proposed sale of items and services will establish Kuwait's first dedicated airborne ISR fleet. The King Air 350ER ISR is part of the Kuwaiti Air Force's rapid expansion and modernization efforts, and is a priority for Kuwait and the United States. Kuwait will have no difficulty absorbing this equipment into its armed forces.

The proposed sale of this equipment and support will not alter the basic military balance in the region.

The principal contractor will be Sierra Nevada Corporation, Hagerstown, MD. There are no known offset agreements proposed in connection with this potential sale.

Implementation of this proposed sale will not require the long term assignment of any additional U.S. Government representatives to Kuwait. There will be U.S. contractor field representatives relocating to Kuwait in order provide day-to-day maintenance and logistics support.

There will be no adverse impact on U.S. defense readiness as a result of this proposed sale.

Transmittal No. 17-78

Notice of Proposed Issuance of Letter of Offer Pursuant to Section 36(b)(1) of the Arms Export Control Act

Annex

Item No. vii

(vii) Sensitivity of Technology:

1. King Air 350ER is an Intelligence, Surveillance, and Reconnaissance (ISR) aircraft, a specifically modified B350ER, capable of operating in austere environments while providing real-time ISR. It is equipped with an integrated electro-optical and infrared (E.O./IR) which gives it a day/night ISR capability. Additionally, the aircraft will have a signal intercept system capable of searching, direction finding (geo-locating), collection, and on-board analysis of simple signals of interest in the very high frequency (VHF) and ultra-high frequency (UHF) broadcast bands. It will also have synthetic aperture radar (SAR) to provide spot and strip ground mapping along with ground moving target indicator (GMTI) modes. It will also have onboard workstations that will control the intercept system and E.O./IR system. The system will provide voice and data communication with personnel on the ground to share collected data. Aircraft hardware and software are UNCLASSIFIED; technical data and documentation to be provided are UNCLASSIFIED.

2. Small Tactical Terminal (STT) KOR-24A is a two-channel radio for Link 16 networks and tactical wideband UHF or legacy VHF/UHF systems. The Link 16 command, control, communications, and intelligence (C3I) system incorporating high-capacity, jam-resistant, digital communication links for exchange of near real-time tactical information, including both data and voice, among air, ground, and sea elements. Hardware is UNCLASSIFIED. Technical data and documentation to be provided is UNCLASSIFIED.

3. AN/AAQ-35 WESCAM MX-15HDi Electro-Optical & Infrared Imaging Sensor Turret is a gyro-stabilized, multi-spectral, multi-field of view E.O./IR system. The system provides color daylight TV and nighttime IR video with a laser range finder and laser pointer through use of an externally mounted turret sensor unit and internally mounted sensor control. Video imagery is displayed in the aircraft real time and may be recorded for subsequent ground analysis. Hardware is UNCLASSIFIED. Technical data and documentation to be provided are UNCLASSIFIED.

4. Selex Seaspray 7500E is a multi-mode radar combines a state-of-the-art Active Electronically Scanned Array (AESA) with Commercial Off-The-Shelf (COTS) processor. It provides strip and spotlight SAR imaging and ground moving target indicator (GMTI) capability for all-weather and wide range surveillance. Hardware is UNCLASSIFIED. Technical data and documentation to be provided is UNCLASSIFIED.

5. AAR-47 Missile Warning Systems is a small, lightweight, passive, electro-optic, threat warning device used to detect surface-to-air missiles and automatically provide countermeasures, as well as audio and visual-sector warning messages to the aircrew. Hardware is UNCLASSIFIED. Software is SECRET. Technical data and documentation to be provided are UNCLASSIFIED.

6. ALE-47 Countermeasure Dispenser Systems (CMDS) provides an integrated threat-adaptive, computer controlled capability for dispensing chaff, flares, and active radio frequency expendables. The AN/ALE 47 uses threat data received over the aircraft interfaces to assess the threat situation and determine a response. Expendable routines tailored to the immediate aircraft and threat environment may be dispensed using one of four operational modes. Hardware is UNCLASSIFIED. Software is SECRET. Technical data and documentation to be provided are UNCLASSIFIED.

7. AN/APX-119 Identification Friend or Foe combined transponder interrogator system is UNCLASSIFIED unless Mode IV or V operational evaluator parameters, which are SECRET, are loaded into the equipment.

8. This sale will involve the release of sensitive and or classified cryptographic elements for secure communications radios, cryptographic equipment, and precision navigation equipment. The hardware is UNCLASSIFIED, except where systems are loaded with cryptographic software, which is classified up to SECRET.

9. If a technologically advanced adversary were to obtain knowledge of specific hardware, the information could be used to develop countermeasures which might reduce weapons system effectiveness or be used in the development of a system with similar or advanced capabilities.

10. A determination has been made that Kuwait can provide substantially the same degree of protection for sensitive technology being released as the U.S. Government. This proposed sustainment program is necessary to the furtherance of the U.S. foreign policy and national security objectives outlined in the policy justification.

11. All defense articles and services listed on this transmittal are authorized for release and export to the Government of Kuwait.

[FR Doc. 2018-04796 Filed 3-8-18; 8:45 am]

BILLING CODE 5001-06-P